DEPARTMENT OF THE INTERIOR

National Park Service

[NPS-WASO-NRNHL-11883; 2200-3200-665]

National Register of Historic Places; Notification of Pending Nominations and Related Actions

Nominations for the following properties being considered for listing or related actions in the National Register were received by the National Park Service before December 1, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by January 29, 2013. Before including your address, phone number, email address, or other personal identifying information in your comment, you should be aware that your entire comment—including your personal identifying information—may be made publicly available at any time. While you can ask us in your comment to withhold your personal identifying information from public review, we cannot guarantee that we will be able to do so.

Dated: December 7, 2012.
J. Paul Loether,
Chief, National Register of Historic Places/National Historic Landmarks Program.

CALIFORNIA

Los Angeles County

Fox Theatre Inglewood, 115 N. Market St., Inglewood, 12001163

Merwin House, (Residential Architecture of Pasadena: Influence of the Arts and Crafts Movement MPS) 267 W. State St., Pasadena, 12001164

DISTRICT OF COLUMBIA

District of Columbia

Barr Building, 910 17th St. NW., Washington, 12001165

Tiber Island, 401-461 N, 430-490 M, 1201-1265 4th & 1252 6th Sts. SW., Washington, 12001166

GEORGIA

Fulton County

Adams, Charles R., Park, 1690 Delowe Dr., Atlanta, 12001167

MASSACHUSETTS

Barnstable County

Bourne Town Hall, 24 Perry Ave., Bourne, 12001169

Bourne, Jonathan, Public Library, 30 Keene St., Bourne, 12001168

Plymouth County

McElwain, William H., School, 250 Main St., Bridgewater, 12001170

MICHIGAN

Chippewa County

Lipsett Hardware Building, 175 Main St., Pickford, 12001171

Kent County

Willard Building, 150 E. Fulton St., Grand Rapids, 12001172

MINNESOTA

Hennepin County

Peavey Plaza, 1101 Nicolet Mall, Minneapolis, 12001173

Kandiyohi County

Willmar Municipal Airport, (Federal Relief Construction in Minnesota MPS) 2321 Airport Dr., Willmar, 12001174

St. Louis County

Lincoln Branch Library, 2229 W. 2nd St., Duluth, 12001175

MISSOURI

Bollinger County

Mayfield, Will, College Campus, 207 Mayfield Dr., Marble Hill, 12001176

Boone County

Mount Zion Church and Cemetery, (Rural Church Architecture of Missouri, c. 1819 to c. 1945 MPS) 11070 Mount Zion Rd., Hallsville, 12001177

NEW JERSEY

Morris County

Stephens Homestead, 800 Willow Grove Rd. (Mount Olive Township), Hackettstown, 12001178

NORTH CAROLINA

Guilford County

Sunset Hills Historic District, (Greensboro MPS) Bounded by W. Friendly, N. & S. Elam & W. Wright Aves., S. Tremont Dr., N. Aycock St. & Kensington Rd., Greensboro, 12001179

OHIO

Cuyahoga County

Globe Machine and Stamping Company, 1250 W. 76th St., Cleveland, 12001180

Fayette County

Washington School, 318 N. North St., Washington Court House, 12001181

Montgomery County

Antioch Temple, 107 E. 1st St., Dayton, 12001182

Summit County

Stan Hywet Poultry Keepers Cottage, 1103 Courtleigh Dr., Akron, 12001183

UTAH

Sevier County

Fish Lake Cut-off of the Old Spanish Trail Archaeological District, Fishlake National Forest, (Old Spanish Trail and the Fish Lake Cut-off MPS) Address Restricted, Salina, 12001184

Old Spanish Trail Archaeological District, Fishlake National Forest, (Old Spanish Trail and the Fish Lake Cut-off MPS) Address Restricted, Salina, 12001185

VIRGINIA

Albemarle County

St. James Church, VA 614, E. of VA 676, Charlottesville, 12001186

WISCONSIN

Milwaukee County

Pritzlaff, John, Hardware Company, 305-333 N. Plankinton & 143, 155, W. St. Paul Aves., Milwaukee, 12001187

Oneida County

Pelican Lake Hotel, 745 US 45, Schoepke, 12001188

A request for removal has been made for the following resource:

GEORGIA

DeKalb County

Pines, Russell and Nelle, Lustron House, 2081 Sylvania Dr., Decatur, 96000207

[FR Doc. 2013-00503 Filed 1-11-13; 8:45 am]

BILLING CODE 4312-51-P